DEPARTMENT OF ENERGY

Energy Information Administration

Agency Information Collection Activities: Proposed Collection; Comment Request

AGENCY: Energy Information Administration, DOE.

ACTION: Agency information collection activities: proposed collection; comment request.

SUMMARY: The Energy Information Administration (EIA) is soliciting comments on proposed modifications and a three-year extension to the Form EIA-28, Financial Reporting System (FRS).

DATES: Written comments must be submitted within 60 days of the publication of this notice. If you anticipate difficulty in submitting comments within that period, contact the person identified below as soon as possible.

ADDRESSES: Comments should be directed to Gregory P. Filas of EIA. To ensure receipt of the comments by the due date, submission by FAX (202-586-9753) or e-mail (greg.filas@eia.doe.gov) is recommended. Mr. Filas' mailing address is Energy Information Administration (EI-62), Financial Analysis Team, Forrestal Building, U.S. Department of Energy, Washington, DC 20585. Mr. Filas may be telephoned at (202) 586-1347.

FOR FURTHER INFORMATION CONTACT: Requests for additional information or copies of the proposed form and instructions should be directed to Mr. Filas at the address listed above.

SUPPLEMENTARY INFORMATION:

I. Background

II. Current Actions

III. Request for Comments

I. Background

The Federal Energy Administration Act of 1974 (Pub. L. 93-275, 15 U.S.C. 761 et seq.), and the Department of Energy Organization Act (Pub. L. 95-91, 42 U.S.C. 7101 et seq.), require the Energy Information Administration (EIA) to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3507(h) of the Paperwork Reduction Act of 1995.

Under Pub. L. 95-91, section 205(h), the Administrator of the EIA is required to “identify and designate” the major energy companies who must annually file Form EIA-28, Financial Reporting System (FRS), to ensure that the data collected provide “a statistically accurate profile of each line of commerce in the energy industry in the United States.” The standardized reporting and data content allow comparisons on a uniform basis among major energy companies. Data collected on Form EIA-28 are published in aggregate form to protect confidentiality and are used in analyses of the energy industry.

II. Current Actions

For the FRS survey to be conducted in 2004 collecting information for 2003, EIA proposes to revise the Form EIA-28. Major energy companies have become increasingly involved in the supply and disposition of natural gas and electricity as both industries have deregulated. The current FRS is not currently designed to collect detailed information necessary for analyzing major energy companies' activities in electric power and downstream natural gas. Therefore, it is necessary for the FRS to revise its program in order to collect accurate information as mandated.

The mandate (Pub. L. 95-91, section 205(h)) requires EIA to provide data to evaluate the competitive environment within which energy products are supplied and developed and to analyze the nature of institutional arrangements as they relate to energy resource development, supply, and distribution. EIA has consulted with data providers and data users to design a modified FRS that reflects the suggestions of both groups.

The proposed modifications include the addition of the following schedules: Electric Power Income Statement, Electric Power Operating Expenses, Purchases and Sales of Fuel and Electric Power, Electric Power Capacity Measures, Electric Power Output Measures, Downstream Natural Gas Income Statement, Downstream Natural Gas Operating Expenses, Purchases and Sales of Natural Gas and Natural Gas Liquids, Downstream Natural Gas Capacity Measures, and Downstream Natural Gas Output Measures. These schedules will be similar in format to existing schedules used by major energy companies for reporting on petroleum operations. Copies of the proposed new schedules and the instructions are available from Mr. Filas. In addition to the proposed modifications in the FRS form and instructions, EIA will request an extension of OMB approval.

III. Request for Comments

Prospective respondents and other interested persons are invited to comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the Form EIA-28 instructions and definitions clear and sufficient? If not, which instructions require clarification?

B. Can information be submitted by the due date?

C. Public reporting burden for the Form EIA-28 collection is currently estimated to average 449 hours per response. The estimated burden includes the total time, effort, or financial resources expended to generate, maintain, retain, disclose and provide the information. With regard to the new schedules for electric power and downstream natural gas, EIA is estimating those schedules will require an additional one-time burden in 2004 of between 150 to 300 hours per affected respondent to modify existing information systems to generate the additional information. After the systems are modified, EIA is estimating the average increase in reporting burden for the EIA-28 will be 186 hours annually for companies having downstream natural gas activities and 233 hours annually for companies having electric power activities. For those companies having both business activities, the average increase in burden is estimated at 419 hours annually. However, most FRS respondent companies will not be affected as they have no activities in electric power and/or downstream natural gas and thus will incur no additional burden for reporting.

Please comment on (1) the accuracy of the agency's estimate and (2) how the agency could minimize the burden of collecting this information, including the use of information technology.

D. The agency estimates respondents will incur no additional costs for reporting other than the hours required to complete the collection. What is the estimated: (1) Total dollar amount annualized for capital and start-up costs; and (2) recurring annual costs of operation and maintenance, and purchase of services associated with this data collection?

E. Does any other Federal, State, or local agency collect similar information? If so, specify the agency, the data element(s), and the method(s) of collection.

As a Potential User

A. What actions could be taken to help ensure and maximize the quality, objectivity, utility, and integrity of the information disseminated?

B. Is the information useful at the levels of detail indicated on the form?

C. For what purpose(s) would the information be used? Be specific.

D. Are there alternate sources for the information and are they useful? If so, what are their deficiencies and/or strengths?

Comments submitted in response to this notice will be summarized and/or included in the request for OMB approval of the form. They also will become a matter of public record.

Statutory Authority: Section 3507 (h)(1) of the Paperwork Reduction Act of 1995 (Pub. L. 104-13, 44 U.S.C. chapter 35).

Issued in Washington, DC, February 7, 2003.
Jay H. Casselberry,
Agency Clearance Officer, Energy Information Administration.

[FR Doc. 03-3706 Filed 2-13-03; 8:45 am]

BILLING CODE 6450-01-P